DEPARTMENT OF ENERGY

Federal Energy Regulatory Commission

[Project Nos. 11641-003, 11649-003, 11654-003, 11657-003, 11660-003, 11668-003, 11771-003, 11772-003, 11776-003, 11821-003, 11822-002]

Universal Electric Power Corporation; Notice of Surrender of Preliminary Permits

July 6, 2001.

Take notice that Universal Electric Power Corporation, permittee for the projects listed below, has requested to surrender the preliminary permits because the proposed projects no longer meet their investment criteria.

Project No. | Project name | Stream | State | Expiration date
11641-003 | Tionesta Dam | Tionesta Creek | PA | 04-30-2002
11649-003 | Dierks Dam | Salina River | AR | 07-31-2002
11654-003 | Gillham Dam | Cossatot River | AR | 05-31-2002
11657-003 | Loyalhanna Dam | Loyahannak Creek | PA | 07-31-2002
11660-003 | Union City Dam | French River | PA | 03-31-2002
11668-003 | Bellville Dam | Sandusky River | OH | 05-31-2002
11771-003 | Delaware Dam | Olentangy River | OH | 08-31-2002
11772-003 | Blue Marsh Lake Dam | Tulpehocken Creek | PA | 08-31-2002
11776-003 | Rankin Lock & Dam | Tombigbee River | MS | 08-31-2002
11821-003 | Deer Creek Dam | Deer River | OH | 12-31-2002
11822-002 | Pishkum Dam | Deep Creek | MT | 07-31-2003

The permittee filed the request on June 19, 2001, and the eleven preliminary permits shall remain in effect through the thirtieth day after issuance of this notice unless that day is Saturday, Sunday, or holiday as described in 18 CFR 385.2007, in which case each permit shall remain in effect through the first business day following that day. New applications involving these project sites, to the extent provided for under 18 CFR Part 4, may be filed on the next business day.

David P. Boergers,
Secretary.

[FR Doc. 01-17463 Filed 7-11-01; 8:45 am]

BILLING CODE 6717-01-P